BUREAU OF CONSUMER FINANCIAL PROTECTION

Privacy Act of 1974, as Amended

AGENCY: Bureau of Consumer Financial Protection.

ACTION: Notice of Proposed Privacy Act System of Records.

SUMMARY: In accordance with the Privacy Act of 1974, as amended, the Bureau of Consumer Financial Protection, hereinto referred to as the Consumer Financial Protection Bureau (“CFPB”) gives notice of the establishment of a Privacy Act System of Records.

DATES: Comments must be received no later than August 31, 2011. The new system of records will be effective September 12, 2011 unless the comments received result in a contrary determination.

ADDRESSES: You may submit comments, identified by Docket No. CFPB-2011-0013, by any of the following methods:

• Electronic: http://www.regulations.gov. Follow the instructions for submitting comments.

• Mail or Hand Delivery/Courier in Lieu of Mail: Claire Stapleton, Chief Privacy Officer, Consumer Financial Protection Bureau, 1801 L Street, NW., Washington, DC 20036.

All submissions must include the agency name and docket number or Regulatory Information Number (RIN) for this notice. In general all comments received will be posted without change to http://www.regulations.gov. In addition, comments will be available for public inspection and copying at 1801 L St., NW., Washington, DC 20036, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1801 L Street, NW., Washington, DC 20036, (202) 435-7220.

SUPPLEMENTARY INFORMATION: The Dodd-Frank Wall Street Reform and Consumer Protection Act (“Act”), Public Law 111-203, Title X, established the CFPB to administer and enforce federal consumer financial protection law. The CFPB will maintain the records covered by this notice.

The new systems of records described in this notice, CFPB.004—Enforcement Database, will enable the CFPB to carry out its responsibilities with respect to the enforcement of federal consumer financial protection law. A description of the new system of records follows this Notice.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled, “CFPB.004—Enforcement Database” is published in its entirety below.

Dated: July 27, 2011.
Claire Stapleton,
Chief Privacy Officer.

CFPB.004

System Name:

CFPB Enforcement Database.

System Location:

Consumer Financial Protection Bureau, 1801 L Street, NW., Washington, DC 20036.

Categories of individuals covered by the system:

Covered individuals include:

(1) Individuals who are current or former directors, officers, employees, shareholders, agents, and independent contractors of covered persons or service providers, who are or have been the subjects of or otherwise associated with an investigation or enforcement action by the CFPB, or have been named in connection with suspicious activity reports or administrative enforcement orders or agreement. Covered persons and service providers include banks, savings associations, credit unions, thrifts, non-depository institutions, or other persons, offering, providing, or assisting with the provision of consumer financial products or services.

(2) Current, former, and prospective consumers who are or have been customers or prospective customers of, solicited by, or serviced by covered persons or service providers if such individuals have provided information, including complaints about covered persons or service providers, or are or have been witnesses in or otherwise associated with an enforcement action by the CFPB.

(3) Applicants, current and former directors, officers, employees, shareholders, agents, and independent contractors of persons and entities that have business relationships with covered persons or service providers who are or have been the subject of an enforcement action by the CFPB.

(4) Current, former, and prospective customers of persons and entities that have business relationships with covered persons or service providers that are or have been the subject of an enforcement action by the CFPB, and the customers are complainants against covered persons or service providers, or witnesses in or otherwise associated with an enforcement action.

(5) Other individuals who have inquired about or may have information relevant to an investigation or proceeding concerning a possible violation of federal consumer financial law. Information collected regarding consumer financial products and services is subject to the Privacy Act only to the extent that it concerns individuals; information pertaining to corporations and other business entities and aggregate, non-identifiable information is not subject to the Privacy Act.

Categories of records in the system:

Records maintained in the system may contain: Identifiable information about individuals such as name, address, e-mail address, phone number, social security number, employment status, age, date of birth, financial information, credit information, and personal history. Records in this system are collected and generated during the investigation of potential violations and enforcement of laws and regulations under the jurisdiction of the CFPB and may include (1) Records provided to the CFPB about potential or pending investigations, administrative proceedings, and civil litigation; (2) evidentiary materials gathered or prepared by the CFPB or obtained for use in investigations, proceedings, or litigation, and work product derived from or related thereto; (3) staff working papers, memoranda, analyses, databases, and other records and work product relating to possible or actual investigations, proceedings, or litigation; (4) databases, correspondence, and reports tracking the initiation, status, and closing of investigations, proceedings, and litigation; (5) correspondence and materials used by the CFPB to refer criminal and other matters to the appropriate agency or authority, and records reflecting the status of any outstanding referrals; (6) correspondence and materials shared between the CFPB and other federal and state agencies; (7) consumer complaints made or referred to the CFPB.

Authority for maintenance of the system:

Public Law 111-203, Title X, Sections 1011, 1012, 1021, codified at 12 U.S.C. 5491, 5492, 5511.¹

¹ Section 1066 of the Act grants the Secretary of the Treasury interim authority to perform certain functions of the CFPB. Pursuant to that authority, Treasury published rules on the Disclosure of Records and Information within 12 CFR Chapter X. This SORN is published pursuant to those rules and the Privacy Act.

Purpose(s):

The information in the system is being collected to enable the CFPB to carry out its responsibilities with respect to enforcement of Title X of the Dodd-Frank Wall Street Reform and Consumer Protection Act and other federal consumer financial law, including: (1) The investigation of potential violations of federal consumer financial law; (2) the pursuit of administrative or civil enforcement actions; and (3) the referral of matters, as appropriate, to the Department of Justice or other federal or state agencies.

Routine uses of records maintained in the system, including categories of users and the purposes of such uses:

These records may be disclosed, consistent with the CFPB Disclosure of Records and Information Rules promulgated in the title of the CFR to:

(1) Appropriate agencies, entities, and persons when: (a) The CFPB suspects or has confirmed that the security or confidentiality of information in the system of records has been compromised; (b) the CFPB has determined that as a result of the suspected or confirmed compromise there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to: (a) Permit a decision as to access, amendment or correction of records to be made in consultation with or by that agency; or (b) verify the identity of an individual or the accuracy of information submitted by an individual who has requested access to, or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job or other activity on behalf of the CFPB or Federal Government and who have a need to access information in the performance of their duties or activities;

(6) Any authorized agency or component of the Department of Treasury, the Department of Justice, the Federal Reserve System, the Federal Deposit Insurance Corporation or other law enforcement authorities including disclosure by such authorities:

(a) To the extent relevant and necessary in connection with litigation in proceedings before a court or other adjudicative body, where (i) the United States is a party to or has an interest in the litigation, including where the agency, or an agency component, or an agency official or employee in his or her official capacity, or an individual agency official or employee whom the Department of Justice or the Bureau has agreed to represent, is or may likely become a party, and (ii) the litigation is likely to affect the agency or any component thereof; or

(b) To outside experts or consultants when considered appropriate by CFPB staff to assist in the conduct of agency matters;

(7) The U.S. Department of Justice (“DOJ”) for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ or the CFPB has agreed to represent the employee; or

(d) The United States, where the CFPB determines that litigation is likely to affect the CFPB or any of its components;

(8) A grand jury pursuant either to a federal or state grand jury subpoena, or to a prosecution request that such record be released for the purpose of its introduction to a grand jury, where the subpoena or request has been specifically approved by a court. In those cases where the Federal Government is not a party to the proceeding, records may be disclosed if a subpoena has been signed by a judge;

(9) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(10) Appropriate agencies, entities, and persons, including but not limited to potential expert witnesses or witnesses in the course of investigations, to the extent necessary to secure information relevant to the investigation;

(11) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license; and

(12) An entity or person that is the subject of supervision or enforcement activities including examinations, investigations, administrative proceedings, and litigation, and the attorney or non-attorney representative for that entity or person.

Policies and practices for storing, retrieving, accessing, retaining, and dispensing of records in the system:

Storage:

Paper and electronic records.

Retrievability:

Records are retrievable by a variety of fields including without limitation the individual's name, address, account number, social security number, transaction number, phone number, date of birth, or by some combination thereof.

Safeguards:

Access to electronic records is restricted to authorized personnel who have been issued non-transferrable access codes and passwords. Other records are maintained in locked file cabinets or rooms with access limited to those personnel whose official duties require access.

Retention and disposal:

The CFPB will maintain computer and paper records indefinitely until the National Archives and Record Administration approves the CFPB's records disposition schedule.

System manager(s) and address:

The Consumer Financial Protection Bureau, Assistant Director for Enforcement, 1801 L Street, NW., Washington, DC 20036.

Notification procedure:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1801 L St., NW., Washington, DC 20036.

Record access procedures:

See “Notification Procedures” above.

Contesting record procedures:

See “Notification Procedures” above.

Record source categories:

Information in this system is obtained from banks, savings associations, credit unions, or non-depository institutions or other persons offering or providing consumer financial products or services, current, former, and prospective consumers who are or have been customers or prospective employees and agents of such persons, and current, former, and prospective customers of such entities and persons, and others with information relevant to the enforcement of federal consumer financial laws.

Exemptions claimed for the system:

Portions of the records in this system are complied for law enforcement purposes and are exempt from disclosure under CFPB's Privacy Act regulations and 5 U.S.C. 552a(k)(2). Federal criminal law enforcement investigatory reports maintained as part of this system may be the subject of exemptions imposed by the originating agency pursuant to 5 U.S.C. 552a(j)(2).

[FR Doc. 2011-19424 Filed 7-29-11; 8:45 am]

BILLING CODE 4810-25-P